DEPARTMENT OF HEALTH AND HUMAN SERVICES

Centers for Disease Control and Prevention

[30Day-15-14APJ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Using Rapid Assessment Methods to Understand Issues in HIV Prevention, Care and Treatment in the United States—New—National Center for HIV/AIDS, Viral Hepatitis, STD, and TB Prevention (NCHHSTP), Centers for Disease Control and Prevention (CDC).

Background and Brief Description

The Centers for Disease Control and Prevention requests approval for a 3-year clearance to collect data using rapid qualitative inquiries to understand issues related to HIV prevention, care, and treatment in the United States. Rapid inquiries are concentrated data collection and iterative data analytic efforts focused on timely and relevant responses to urgent issues and research questions. Although we will collect the majority of data using qualitative methods, many studies covered under this generic information collection, will involve a mixed methods approach for data collection.

The rapid inquiries will include multiple well-established qualitative methodologies, which may include but not be limited to in-depth individual interviews, focus groups, direct observations, case studies, document reviews, or brief quantitative surveys assessing demographics, behaviors, attitudes, intentions, beliefs, or other attributes of the respondents. In some assessments, additional contextual information may be collected, such as information about the respondents' community, workplaces, or organizations and places where they interact. CDC expects to collect qualitative data from approximately 1,800 respondents, assuming three research studies per year with each research study collecting data from 200 respondents.

For all proposed studies under this generic information collection, our efforts are expected to provide insight regarding a wide array of HIV-related programs designed for various populations throughout the United States, including but not limited to: Persons living with HIV/AIDS (PLWH); persons at elevated risk for acquiring new HIV infection or transmitting existing HIV infection to others; clinicians or other HIV care providers; men who have sex with men (MSM); transgender persons; injection and noninjection drug users; incarcerated populations or ex-prisoners; commercial sex workers; male and female heterosexual groups at high risk for HIV infection; and other providers and organizations (e.g., health departments, community-based organizations, public and private health clinics, advocacy groups, community groups, or other governmental and nongovernmental organizations) serving or otherwise interacting with persons at greatest need for HIV prevention, care, and treatment.

Recruitment procedures will vary slightly based on the target population and research design of each information collection submitted under this generic information collection. Partner organizations such as public and private health clinics and community-based organizations that serve the target populations in the respective geographic locations may be contacted for their assistance in recruitment of potential respondents. Respondents may be identified and selected as key informants and invited to participate by contractor staff members.

Sampling recruitment methods may include, but not be limited to: Use of social networking sites, the Internet, print marketing materials, and other methods to find and enroll respondents into the research study.

All data collection tools will be pretested and interviews conducted by trained personnel. The data collection will take place at a time and place that is convenient to the respondent. Locations will be private. Data collection may be audio-recorded and transcribed with the consent of the respondent.

The data collections supported under this generic information collection will be used to provide insight regarding barriers and facilitators to HIV prevention, care, and treatment in the United States and territories, and thus suggest ways CDC might improve programmatic activities along the continuum of HIV prevention, treatment and care.

The total estimated annualized burden hours are 918. There are no costs to respondents other than their time.

Estimated Annualized Burden Hours
Type of respondent | Form name | Number of respondents | Number of responses per respondent | Average burden per response (in hours)
General Public—Adults | Study Screener | 1,600 | 1 | 5/60
General Public—Adults | Contact Information Form | 600 | 1 | 1/60
General Public—Adults | Consent Form | 600 | 1 | 5/60
General Public—Adults | Demographic Survey | 500 | 1 | 15/60
General Public—Adults | Interview Guide | 500 | 1 | 1
General Public—Adults | Provider Demographic Survey | 100 | 1 | 15/60
General Public—Adults | Provider Interview Guide | 100 | 1 | 45/60

Leroy A. Richardson,
Chief, Information Collection Review Office, Office of Scientific Integrity, Office of the Associate Director for Science, Office of the Director, Centers for Disease Control and Prevention.

[FR Doc. 2015-12808 Filed 5-27-15; 8:45 am]

BILLING CODE 4163-18-P